DEPARTMENT OF COMMERCE

International Trade Administration

[A-489-833]

Large Diameter Welded Pipe From the Republic of Türkiye: Final Results of Antidumping Duty Administrative Review; 2022-2023

AGENCY: Enforcement and Compliance, International Trade Administration, Department of Commerce.

SUMMARY: The U.S. Department of Commerce (Commerce) determines that large diameter welded pipe (welded pipe) from the Republic of Türkiye (Türkiye) is not being sold in the United States at less than normal value during the period of review (POR), May 1, 2022, through April 30, 2023.

DATES: Applicable August 20, 2024.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On June 6, 2024, Commerce published the Preliminary Results and invited comments from interested parties.¹ No interested party submitted comments on the Preliminary Results. Accordingly, the final results remain unchanged from the Preliminary Results, and thus, there is no decision memorandum accompanying this notice. On July 22, 2024, Commerce tolled certain deadlines in this administrative proceeding by seven days.² The deadline for these final results is now October 11, 2024. Commerce conducted this administrative review in accordance with section 751 of the Tariff Act of 1930, as amended (the Act).

¹ See Large Diameter Welded Pipe from the Republic of Türkiye: Preliminary Results and Rescission, in Part, of Antidumping Duty Administrative Review; 2022-2023, 89 FR 48386 (June 6, 2024) (Preliminary Results), and accompanying Preliminary Decision Memorandum (PDM).

² See Memorandum, “Tolling of Deadlines for Antidumping and Countervailing Duty Proceedings,” dated July 22, 2024.

Scope of the Order ³

³ See Large Diameter Welded Pipe from the Republic of Turkey: Amended Final Affirmative Antidumping Duty Determination and Antidumping Duty Order, 84 FR 18799 (May 2, 2019); and Large Diameter Welded Pipe from the Republic of Turkey: Notice of Court Decision Not in Harmony With Amended Final Determination in the Less-Than-Fair-Value Investigation; Notice of Amended Final Determination Pursuant to Court Decision; and Notice of Revocation of Antidumping Duty Order, in Part, 85 FR 35262 (June 9, 2020) (Amended Final Determination) (collectively, Order).

The merchandise covered by the Order is welded pipe from Türkiye. For a complete description of the scope of the Order, see the Preliminary Results.

Rate for Company Not Selected for Individual Examination

The Act and Commerce's regulations do not address the rate to be applied to companies not selected for individual examination when Commerce limits its examination in an administrative review pursuant to section 777A(c)(2) of the Act. Generally, Commerce looks to section 735(c)(5) of the Act, which provides instructions for calculating the all-others rate in a less-than-fair value (LTFV) investigation, for guidance when calculating the rate for companies which were not selected for individual examination in an administrative review. Under section 735(c)(5)(A) of the Act, the all-others rate is normally “an amount equal to the weighted average of the estimated weighted-average dumping margins established for exporters and producers individually investigated, excluding any margins that are zero, de minimis (i.e., less than 0.5 percent), or determined entirely on the basis of facts available.”

Where the weighted-average dumping margins for individually examined respondents are zero, de minimis, or determined based entirely on facts available, section 735(c)(5)(B) of the Act provides that Commerce may use “any reasonable method to establish the estimated all-others rate for exporters and producers not individually investigated . . . .” For these final results, we continue to calculate a weighted-average dumping margin of zero percent for HDM Celik Boru Sanyai Ve Ticaret A.S (HDM).⁴ Therefore, consistent with our practice, we assigned a rate of zero percent to Emek Boru Makine Sanayi ve Ticaret A.S. (Emek Boru), the company not selected for individual examination in this review, in accordance with section 735(c)(5)(B) of the Act.

⁴ We note that we also continue to assign HDM's weighted-average dumping margin to Cimtas Boru Imalatlari ve Ticaret, Ltd. (Cimtas) pursuant to section 772(e) of the Act. For further discussion, see the Preliminary Results PDM at 4-5.

Final Results of Review

For these final results, we determine that the following estimated weighted-average dumping margin exists for the period May 1, 2022, through April 30, 2023:

⁵ Commerce initiated this review on both HDM and HDM Spiral Kaynakli Celik Boru A.S. (HDM Spiral). The English name of HDM Spiral is Spirally Welded Steel Pipe Inc.

Producer/exporter | Weighted- average dumping margin (percent)
HDM Celik Boru Sanyai Ve Ticaret A.S.⁵ | 0.00
Cimtas Boru Imalatlari ve Ticaret, Ltd | 0.00
Emek Boru Makine Sanayi ve Ticaret A.S | 0.00

Disclosure

Normally, Commerce will disclose to the parties in a proceeding the calculations performed in connection with the final results of review within five days of any public announcement or, if there is no public announcement, within five days of the date of publication of the notice of final results in the Federal Register, in accordance with 19 CFR 351.224(b). However, because we have made no changes from the Preliminary Results, there are no new calculations to disclose.

Assessment Rates

Pursuant to section 751(a)(2)(C) of the Act and 19 CFR 351.212(b)(1), Commerce has determined, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Commerce calculated a weighted-average dumping margin for HDM of zero percent in this review. Accordingly, we intend to instruct CBP to liquidate the appropriate entries without regard to antidumping duties. For entries of subject merchandise during the POR produced by HDM for which HDM did not know its merchandise was destined for the United States, we will instruct CBP to liquidate unreviewed entries at the all-others rate in the Amended Final Determination of the LTFV investigation (i.e., 1.57 percent),⁶ if there is no rate for the intermediate company(ies) involved in the transaction.⁷

⁶ See Amended Final Determination, 85 FR at 35263.

⁷ See Antidumping and Countervailing Duty Proceedings: Assessment of Antidumping Duties, 68 FR 23954 (May 6, 2003).

For both Cimtas and Emek Boru, the company that was not selected for individual examination in this review, we have assigned them the weighted-average dumping margin calculated for HDM (i.e., zero percent). Accordingly, we will instruct CBP to liquidate suspended entries during the POR for these companies without regard to antidumping duties.

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for the companies listed above will be equal to the weighted-average dumping margin established in these final results of this administrative review; (2) for previously investigated or reviewed companies not covered in this review, the cash deposit rate will continue to be the company-specific rate published for the most recently completed segment of this proceeding in which the company participated; (3) if the exporter is not a firm covered in this review, or the LTFV investigation, but the producer is, then the cash deposit rate will be the cash deposit rate established for the most recently completed segment for the producer of the subject merchandise; and (4) the cash deposit rate for all other producers and exporters will continue to be 1.57 percent, the all-others rate established in the Amended Final Determination.⁸ These cash deposit requirements, when imposed, shall remain in effect until further notice.

⁸ See Amended Final Determination, 85 FR at 35263.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of countervailing duties.

Administrative Protective Order

This notice serves as the only reminder to parties subject to an administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

We are issuing and publishing this notice in accordance with sections 751(a)(1) and 777(i) of the Act and 19 CFR 351.221(b)(5).

Dated: August 14, 2024.
Abdelali Elouaradia,
Deputy Assistant Secretary for Enforcement and Compliance.

[FR Doc. 2024-18639 Filed 8-19-24; 8:45 am]

BILLING CODE 3510-DS-P